DEPARTMENT OF HOMELAND SECURITY

Publication and Release of the National Response Plan

AGENCY: Department of Homeland Security.

ACTION: Notice.

SUMMARY: This Notice informs the public that the Department of Homeland Security (DHS) has developed and published a Notice of Change to the National Response Plan, that is now available to the public.

Authority: Homeland Security Act of 2002, Public Law 107-296; Homeland Security Presidential Directive—5, Management of Domestic Incidents.

FOR FURTHER INFORMATION CONTACT: Ms. Tina Gabbrielli, National Preparedness Task Force, DHS, Washington, DC 20528, 202-282-9810 or NPTF-CP@dhs.gov; Mr. Paul Schwartz, Interagency Response Planning, DHS, Federal Emergency Management Agency, Washington, DC 20472, 202-646-7653 or paul.k.schwartz@dhs.gov.

SUPPLEMENTARY INFORMATION: In December 2004, the Department of Homeland Security (DHS) published the National Response Plan (NRP). The NRP, using the comprehensive framework of the National Incident Management System (NIMS), establishes a comprehensive, national, all-hazards approach to domestic incident management across a spectrum of activities including prevention, preparedness, response, and recovery. It provides the structure and mechanisms for the coordination of Federal support to State, local, and tribal incident managers and for exercising direct Federal authorities and responsibilities. The NRP is applicable to all Federal departments and agencies that may be requested to provide assistance or conduct operations in the context of actual or potential domestic incidents requiring a coordinated Federal response.

As of April 14, 2005, the NRP superseded the Initial National Response Plan, Federal Response Plan, U.S. Government Interagency Domestic Terrorism Concept of Operations Plan, and Federal Radiological Emergency Response Plan, and all Federal departments and agencies were required to fully implement the NRP.

Based on lessons learned during Hurricane Katrina, DHS reviewed recommendations applicable to the execution of the NRP and worked with the White House Homeland Security Council (HSC) to identify and amend select sections of the NRP. A Notice of Change, which was limited in scope to those actions requiring immediate clarification or modification in order to ensure future effective and coordinated Federal responses, was subsequently developed by DHS and approved by the HSC Domestic Readiness Group. A full scale review of the NRP will commence at a later date.

The Notice of Change to the NRP became effective on May 25, 2006. When providing support under the NRP, Federal departments and agencies are required to conform to any modifications to the processes or structures identified in the Notice of Change.

This Notice informs the public of the release and availability of the National Response Plan Notice of Change. The Notice of Change is available on the Department of Homeland Security's Web site at http://www.dhs.gov/nationalresponseplan.

George W. Foresman,
Under Secretary for Preparedness, Department of Homeland Security.
R. David Paulison,
Under Secretary for Federal Emergency Management, Department of Homeland Security.

[FR Doc. E6-11998 Filed 7-26-06; 8:45 am]

BILLING CODE 9110-09-P